DEPARTMENT OF TRANSPORTATION

Federal Aviation Administration

Notice of Charter Renewal of the Commercial Space Transportation Advisory Committee (COMSTAC)

AGENCY: Federal Aviation Administration (FAA), DOT.

ACTION: Notice.

SUMMARY: The FAA announces the charter renewal of the COMSTAC, a Federal Advisory Committee that provides information, advice, and recommendations to the Department of Transportation and the Administrator of the Federal Aviation Administration (FAA) on the critical matters facing the U.S. commercial space transportation industry.

DATES: Effective Date: December 4, 2014. The effective date of the charter renewal is November 17, 2014, and will expire after 2 years.

FOR FURTHER INFORMATION CONTACT: Michael Beavin, COMSTAC Executive Director, telephone (202) 267-9051; email michael.beavin@faa.gov, FAA Office of Commercial Space Transportation (AST-3), 800 Independence Avenue SW., Room 331, Washington, DC 20591.

SUPPLEMENTARY INFORMATION: Pursuant to Section 10(a)(2) of the Federal Advisory Committee Act (Pub. L. 92-463), FAA is giving notice of the charter renewal for the COMSTAC. This charter renewal took effect on November 17, 2014, and will expire after 2 years.

The primary goals of COMSTAC are to: Evaluate economic, technological, and institutional developments relating to the U.S. commercial space transportation industry; provide a forum for the discussion of problems involving the relationship between industry activities and government requirements; and make recommendations to the FAA Administrator on issues and approaches for Federal policies and programs regarding the industry.

COMSTAC membership consists of senior executives from the commercial space transportation industry; representatives from the satellite industry, both manufacturers and users; state and local government officials; representatives from firms providing insurance, financial investment and legal services for commercial space activities; and representatives from academia, space advocacy organizations, and industry associations.

Complete information regarding COMSTAC is available on the FAA Web site at: http://www.faa.gov/about/office_org/headquarters_offices/ast/advisory_committee/.

Issued in Washington, DC, on November 24, 2014.
George C. Nield,
Associate Administrator for Commercial Space Transportation.

[FR Doc. 2014-28525 Filed 12-3-14; 8:45 am]

BILLING CODE 4910-13-P